FEDERAL COMMUNICATIONS COMMISSION

Notice of Public Information Collection(s) Being Reviewed by the Federal Communications Commission for Extension Under Delegated Authority, Comments Requested

October 5, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before December 14, 2001. If you anticipate that you will be submitting comments, but find it difficult to do so within the period of time allowed by this notice, you should advise the contact listed below as soon as possible.

ADDRESSES: Direct all comments to Les Smith, Federal Communications Commissions, Room 1 A-804, 445 Twelfth Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0391.

Title: Program to Monitor the Impacts of the Universal Service Support Mechanisms, CC Docket Nos. 98-202 and 96-45.

Form No.: N/A.

Type of Review: Extension.

Respondents: Business or Other for Profit.

Number of Respondents: 500.

Estimated Time Per Response: 3.4 hours per response (avg).

Total Annual Burden: 1718 hours.

Estimated Annual Reporting and Recordkeeping Cost Burden: $0.

Frequency of Response: Annually.

Needs and Uses: The Commission has a program to monitor the impacts of the universal service support mechanisms. The program requires the annual reporting of information regarding network usage and growth by certain companies to the National Exchange Carrier Association (NECA). The information is used by the Commission, Federal-State Joint Boards, Congress, and the general public to assess the impacts of the decisions of the Commission and the Joint Boards.

OMB Control No.: 3060-0665.

Title: Section 64.707—Public Dissemination of Information by Providers of Operator Services.

Form No.: N/A.

Type of Review: Extension.

Respondents: Business or Other for Profit.

Number of Respondents: 436.

Estimated Time Per Response: 4 hours per response (avg).

Total Annual Burden: 1744 hours.

Estimated Annual Reporting and Recordkeeping Cost Burden: $0.

Frequency of Response: On occasion; Third party disclosure.

Needs and Uses: As required by 47 U.S.C. Section 226(d)(4)(b), 47 CFR Section 64.707 provides that operator service providers must regularly publish and make available upon request from consumers written materials that describe any changes in operator services and choices available to consumers. Consumers use the information to increase their knowledge of the choices available to them in the operator services marketplace.

OMB Approval No.: 3060-0374.

Title: Section 73.1690 Modification of transmission system.

Form Number: None.

Type of Review: Extension of currently approved collection.

Respondents: Business or other for-profit.

Number of Respondents: 300 AM; 300 FM/TV.

Estimated Time Per Response: 3 hours/respondent—AM ; 0.5 hours/respondent—FM/TV.

Frequency of Response: On occasion.

Cost to Respondents: $0.

Estimated Total Annual Burden: 1050.

Needs and Uses: Section 73.1690(e) requires AM, FM and TV station licensees to prepare an informal statement or diagram describing any electrical and mechanical modification to authorized transmitting equipment that can be made without prior Commission approval provided that equipment performance measurements are made to ensure compliance with FCC rules. This informal statement or diagram is to be retained at the transmitter site as long as the equipment is in use. The data are used by broadcast licensees to provide prospective users of the modified equipment with necessary information.

OMB Approval No.: 3060-0852.

Title: Application for Transfer of Control of a Multipoint Distribution Service Authorization.

Form No.: FCC 306.

Type of Review: Extension of currently approved collection.

Respondents: Businesses or other for-profit, not-for-profit institutions.

Number of Respondents: 20.

Estimated Hours Per Response: 58 hours (2.0 hours—licensee; 15.2 hours—transferor; 40.8 hours—transferee).

Frequency of Response: On occasion.

Cost to Respondents: $211,275.

Estimated Total Annual Burden: 110 hours.

Needs and Uses: FCC Form 306 is to be used to apply for authority to transfer control of an MDS authorization pursuant to 47 C.F.R. Sections 21.11, 21.38 and 21.39. The data is used by FCC staff to determine if the applicant is qualified to become a Commission licensee or permittee and to carry out the statutory provisions of Section 310(d) of the Communications Act of 1934, as amended.

OMB Approval No.: 3060-0851.

Title: Application for Assignment of a Multipoint Distribution Service Authorization.

Form No.: FCC 305.

Type of Review: Extension of currently approved collection.

Respondents: Businesses or other for-profit, not-for-profit institutions.

Number of Respondents: 160.

Estimated Hours Per Response: 55 hours (12.7 hours—assignor; 37.3 hours—assignee.

Frequency of Response: on occasion.

Cost to Respondents: $1,610,350.

Estimated Total Annual Burden: 800 hours.

Needs and Uses: FCC Form 305 is to be used to apply for authority to assign an MDS authorization pursuant to 47 C.F.R. Sections 21.11, 21.38 and 21.39. The data is used by FCC staff to determine if the applicant is qualified to become a Commission licensee or permittee and to carry out the statutory provisions of Section 310(d) of the Communications Act of 1934, as amended.

OMB Approval No.: 3060-0658.

Title: Section 21.960 Designated entity provisions of MDS.

Form No.: n/a.

Type of Review: Extension of currently approved collection.

Respondents: Businesses or other for-profit.

Number of Respondents: 60.

Estimated Hours Per Response: designated entity exhibits—2.0 hours (1.0 hours—respondent; 1.0 hours—contract attorney); records maintenance—1.0 hours.

Frequency of Response: Reporting-on occasion, recordkeeping.

Cost to Respondents: $4,000.

Estimated Total Annual Burden: 60 hours.

Needs and Uses: Section 21.960(e) requires winning bidders who are designated entities (small businesses) to file with its long-form application or statement of intention an exhibit which includes eligibility requirements as listed in Section 21.960(e). This exhibit should also list and summarize all agreements that affect designated entity status.

Section 21.960(f) requires all holders of BTA authorizations acquired by auction that claim designated entity status to maintain, at their principal place of business or with their designated agent, an updated documentary file of ownership and revenue information necessary to establish their status.

All BTA authorization holders claiming eligibility under designated entity provisions are subject to audits under Section 21.960(g). Selection for an audit may be random, on information from any source, or on the basis of other factors. These audits may include inspection of the BTA holders' books, documents and other materials sufficient to confirm that such holders' representations are, and remain, accurate.

The exhibit submitted under Section 21.960(e) is necessary for the Commission to determine whether the applicant is qualified as a designated entity (small business) and therefore eligible for special measures including installment payments, reduced up-front payments and bidding credits. The records maintenance and audit provisions of Sections 21.960(f) and (g) are necessary to prevent abuse of the special measures offered to those MDS auction winners claiming designated entity status. These provisions requiring the retention of records should not prove overly burdensome, and they will help to ensure that only entities eligible under the auction rules will be able to take advantage of the designated entity measures.

Federal Communications Commission.
Magalie Roman Salas,
Secretary.

[FR Doc. 01-25759 Filed 10-12-01; 8:45 am]

BILLING CODE 6712-01-P